ENVIRONMENTAL PROTECTION AGENCY

[EPA-HQ-OPP-2017-0008; FRL-9972-18]

Pesticide Product Registration; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before March 30, 2018.

ADDRESSES: Submit your comments, identified by the Docket Identification (ID) Number and the File Symbol of interest as show in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (7505P), main telephone number: (703) 305-7090; email address: RDFRNotices@epa.gov. The mailing address for each contact person is: Office of Pesticide Programs, Environmental Protection Agency, 1200 Pennsylvania Ave. NW, Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

III. New Uses

1. EPA Registration Number: 100-791, 100-1202. Docket ID number: EPA-HQ-OPP-2017-0562. Applicant: Syngenta Crop Protection, LLC, P.O. Box 18300, Greensboro, NC 27419. Active ingredient: Mefenoxam. Product type: Fungicide. Proposed use: Wasabi, cacao and small vine climbing fruit (except grape), subgroup 13-07E. Contact: RD.

2. EPA Registration Numbers: 264-776 and 264-1055. Docket ID number: EPA-HQ-OPP-2017-0530. Applicant: Bayer CropScience LP2, T.W. Alexander Dr., Research Triangle Park, NC 27709. Active ingredient: Trifloxystrobin. Product type: Fungicide. Proposed Uses: Flax. Contact: RD.

3. EPA Registration Number(s): 264-825, 264-825, and 264-1055. Docket ID number: EPA-HQ-OPP-2017-0531. Applicant: Bayer CropScience LP2, T.W. Alexander Dr., Research Triangle Park, NC 27709. Active ingredient: Prothioconazole. Product type: Fungicide. Proposed Use: Crop group expansion from current use on canola to Crop Subgroup 20A (Rapeseed subgroup). Contact: RD.

4. EPA File Symbol: 432-RLOT. Docket ID number: EPA-HQ-OPP-2017-0643. Applicant: Bayer CropScience, 2 T.W. Alexander Drive, Raleigh, NC 27709. Active ingredient: Deltamethrin. Product type: Insecticide. Proposed Use: Non-food indoor use, broadcast spray to carpeting for flea control. Contact: RD.

5. EPA Registration Numbers: 7969-283 and 7969-URE. Docket ID number: EPA-HQ-OPP-2017-0616. Applicant: BASF Corporation. Active ingredient: Metrafenone. Product type: Fungicide. Proposed Use: Mushrooms. Contact: RD.

6. EPA Registration Numbers: 10163-331 and 10163-6415. Docket ID number: EPA-HQ-OPP-2017-0665. Applicant: Gowan Company, P.O. Box 5569, Yuma, AZ 85366. Active ingredient: Zoxamide. Product type: Fungicide. Proposed Use: Crop subgroup 8-10B (pepper/eggplant subgroup). Contact: RD.

7. EPA Registration Number: 11678-73, 66222-243 and 66222-262. Docket ID number: EPA-HQ-OPP-2017-0572. Applicant: Makhteshim Agan of North America (d/b/a ADAMA), 3120 Highlands Blvd., Suite 100, Raleigh, NC 27604. Active ingredient: Fluensulfone. Product type: Nematicide. Proposed Use: Citrus Fruit Group 10-10 and Peanut. Contact: RD.

8. EPA Registration Numbers: 71711-30; 71711-31; 71711-36. Docket ID number: EPA-HQ-OPP-2017-0587. Applicant: NICHINO AMERICA, INC., 4550 Linden Hill Road, Suite 501, Wilmington, DE 19808. Active ingredient: Tolfenpyrad. Product type: Insecticide. Proposed uses: Avocado, Vegetable, fruiting, group 8-10; Vegetable, tuberous and corm, subgroup 1C; Onion, bulb, subgroup 3-07A; Onion, green, subgroup 3-07B; Caneberry, subgroup 13-07A; Bushberry, subgroup 13-07B; Fruit, small, vine climbing, except fuzzy kiwifruit, subgroup 13-07F; Berry, low growing, subgroup 13-07G excluding cranberry and blueberry, lowbush; Vegetable, cucurbit, group 9; Cottonseed subgroup 20C; Leafy greens subgroup 4-16A; Leaf petiole vegetable subgroup 22B; Arugula, Celtuce; Florence fennel; Garden cress; and Upland cress. Contact: RD.

Authority: 7 U.S.C. 136 et seq.

Dated: December 19, 2017.
Delores Barber,
Director, Information Technology and Resources Management Division, Office of Pesticide Programs.

[FR Doc. 2018-04107 Filed 2-27-18; 8:45 am]

BILLING CODE 6560-50-P